DEPARTMENT OF TRANSPORTATION

Federal Aviation Administration

14 CFR Part 71

[Docket No. 2013-0709; Amendment No. 71-45]

RIN 2120-AA66

Airspace Designations; Incorporation by Reference Amendments

AGENCY: Federal Aviation Administration (FAA), DOT.

ACTION: Final rule, technical amendment.

SUMMARY: This action incorporates certain amendments into FAA Order 7400.9X, dated September 8, 2013, and effective September 15, 2013, for incorporation by reference in 14 CFR 71.1.

DATES: Effective date 0901 UTC August 7, 2014. The Director of the Federal Register approves this incorporation by reference action under 1 CFR part 51, subject to the annual revision of FAA Order 7400.9 and publication of conforming amendments.

FOR FURTHER INFORMATION CONTACT: Sarah A. Combs, Airspace Policy and Regulations Group, Office of Airspace Services, Federal Aviation Administration, 800 Independence Avenue SW., Washington, DC 20591; telephone: (202) 267-8783.

SUPPLEMENTARY INFORMATION:

History

Federal Aviation Administration Airspace Order 7400.9, Airspace Designations and Reporting Points, incorporated by reference in 14 CFR 71.1, is published yearly. Amendments referred to as “effective date straddling amendments” were published under Order 7400.9W (dated August 8, 2012, and effective September 15, 2012), but became effective under Order 7400.9X (dated August 7, 2013, and effective September 15, 2013). This action incorporates these rules into the current FAA Order 7400.9X.

Accordingly, as this is an administrative correction to update final rule amendments into FAA Order 7400.0X, notice and public procedure under 5 U.S.C. 553(b) are unnecessary. Also, to bring these rules and legal descriptions current, I find that good cause exists, under 5 U.S.C. 553(d), for making this amendment effective in less than 30 days.

The Rule

This action amends title 14 Code of Federal Regulations (14 CFR) Part 71 to incorporate certain final rules into the current FAA Order 7400.9X, Airspace Designations and Reporting Points, dated August 7, 2013, and effective September 15, 2013, which are depicted on aeronautical charts.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

2. Section 71.1 is revised to read as follows:

For Docket No. FAA-2013-0163; Airspace Docket No. 13-AWP-2 (78 FR 40381, July 5, 2013). On page 40381, column 2, line 4, under History remove “. . . FAA Order 7400.9W, Airspace Designations and Reporting Points, dated August 8, 2012, and effective September 15, 2012, . . .” and add in its place “FAA Order 7400.9X, Airspace Designations and Reporting Points, dated August 7, 2013, and effective September 15, 2013, . . .; and on page 40381, column 3, line 34, under Amendatory Instruction 2 remove “. . . Federal Aviation Administration Order 7400.9W, Airspace Designations and Reporting Points, dated August 8, 2012, and effective September 15, 2012, . . .”; and add in its place “Federal Aviation Administration Order 7400.9X, Airspace Designations and Reporting Points, dated August 7, 2013, and effective September 15, 2013, . . .”.

For Docket No. FAA-2013-0258; Airspace Docket No. 13-ANM-12 (78 FR 40382, July 5, 2013). On page 40382, column 2, line 22 under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 40382, column 3, line 60, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1121; Airspace Docket No. 12-AGL-8 (78 FR 41290, July 10, 2013). On page 41290, column 3, line 11 under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 41291, column 1, line 35, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1138; Airspace Docket No. 12-ACE-6 (78 FR 41289, July 10, 2013). On page 41289, column 2, line 6, under History remove “. . . FAA Order 7400.9W, Airspace Designations and Reporting Points, dated August 8, 2012, and effective September 15, 2012, . . .”; and on page 41289, column 3, line 32, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1139; Airspace Docket No. 12-AGL-12 (78 FR 41685, July 11, 2013). On page 41685, column 3, line 29, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 41686, column 1, line 59, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0236; Airspace Docket No. 13-AGL-5 (78 FR 41686, July 11, 2013). On page 41686, column 3, line 26, under History; and on page 41687, column 1, line 39, under Amendatory Instruction 2 remove “. . . FAA Order 7400.9W, Airspace Designations and Reporting Points, dated August 8, 2012, and effective September 15, 2012, . . .” and add in its place “FAA Order 7400.9X, Airspace Designations and Reporting Points, dated August 7, 2013, and effective September 15, 2013, . . .”.

For Docket No. FAA-2012-1282; Airspace Docket No. 12-AGL-16 (78 FR 41837, July 12, 2013). On page 41837, column 3, line 26, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 41838, column 1, line 51, under Amendatory Instruction 2 remove “ . . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1281; Airspace Docket No. 12-ASW-13 (78 FR 41838, July 12, 2013). On page 41838, column 2, line 59, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 41839, column 1, line 23, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-0770; Airspace Docket No. 12-ASW-6 (78 FR 41839, July 12, 2013). On page 41839, column 2, line 38, under History remove “. . . FAA Order 7400.9W, Airspace Designations and Reporting Points, dated August 8, 2012, and effective September 15, 2012, . . .” and add in its place “FAA Order 7400.9X, Airspace Designations and Reporting Points, dated August 7, 2013, . . .”; and on page 41840, column 1, line 3, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1303; Airspace Docket No. 12-ANM-29 (78 FR 45848, July 30, 2013). On page 45848, column 2, line 54, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 45849, column 1, line 19, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0282; Docket No. 13-AAL-3 (78 FR 45849, July 30, 2013). On page 45849, column 2, line 54, under History remove; “. . . FAA Order 7400.9W, Airspace Designations and Reporting Points, dated August 8, 2012, and effective September 15, 2012, . . .” and add in its place “FAA Order 7400.9X, Airspace Designations and Reporting Points, dated August 7, 2013, and effective September 15, 2013, . . .”; and on page 45850, column 1, line 21, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0038; Airspace Docket No. 13-AEA-2 (78 FR 46497, August 1, 2013). On page 46497, column 1, line 58, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 46497, column 3, line 29, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0136; Airspace Docket No. 13-ASW-4 (78 FR 48290, August 8, 2013). On page 48290, column 1, line 52, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48290, column 3, line 23, under Amendatory Instruction 2 remove “. . . Federal Aviation Administration Order 7400.9W, Airspace Designations and Reporting Points, dated August 8, 2012, and effective September 15, 2012, . . .” and add in its place “FAA Order 7400.9X, Airspace Designations and Reporting Points, dated August 7, 2013, and effective September 15, 2013, . . .”.

For Docket No. FAA-2013-0270; Airspace Docket No. 13-AGL-4 (78 FR 48291, August 8, 2013). On page 48291, column 1, line 50, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48291, column 3, line 19, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0165; Airspace Docket No. 13-AGL-6 (78 FR 48291, August 8, 2013). On page 48292, column 1, line 34, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48292, column 2, line 56, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0261; Airspace Docket No. 13-AGL-14 (78 FR 48292, August 8, 2013). On page 48293, column 1, line 6, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48293, column 2, line 32, under Amendatory Instruction 2 remove “. . . Federal Aviation Administration Order 7400.9W, Airspace Designations and Reporting Points, dated August 8, 2012, and effective September 15, 2012, . . .” and add in its place “FAA Order 7400.9X, Airspace Designations and Reporting Points, dated August 7, 2013, and effective September 15, 2013, . . .”.

For Docket No. FAA-2013-0273; Airspace Docket No. 13-ASW-9 (78 FR 48293, August 8, 2013). On page 48293, column 3, line 54, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48294, column 2, line 32 under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1141; Airspace Docket No. 12-ASW-12 (78 FR 48294, August 8, 2013). On page 48295, column 1, line 17, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48295, column 2, line 42, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2011-1111; Airspace Docket No. 11-ASW-13 (78 FR 48295, August 8, 2014). On page 48295, column 3, line 56, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48296, column 2, line 21, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0345; Airspace Docket No. 13-AEA-6 (78 FR 48296, August 8, 2013) On page 48296, column 3, line 38, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48297, column 2, line 3, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0359; Airspace Docket No. 13-AEA-7 (78 FR 48297, August 8, 2013). On page 48297, column 3, line 14, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48298, column 1, line 43, under Amendatory Instruction 2 “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0269; Airspace Docket No. 13-ASW-3 (78 FR 48298, August 8, 2013). On page 48298, column 2, line 59 under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48299, column 1, line 27, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-0433; Airspace Docket No. 12-AAL-5 (78 FR 48299, August 8, 2013). On page 48299, column 3, line 8, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48300, column 1, line 34, under Amendatory Instruction 2 “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1283; Airspace Docket No. 12-AGL-15 (78 FR 48300, August 8, 2013). On page 48300, column 2, line 50, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48301, column 1, line 16, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0266; Airspace Docket No. 13-AGL-11 (78 FR 48301, August 8, 2013). On page 48301, column 2, line 30, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 48301, column 3, line 55, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0004; Airspace Docket No. 13-AGL-1 (78 FR 48302, August 8, 2013). On page 48302, column 2, line 6, under History remove “. . . FAA Order 7400.9W, Airspace Designations and Reporting Points, dated August 8, 2012, and effective September 15, 2012, . . .” and add in its place “FAA Order 7400.9X, Airspace Designations and Reporting Points, dated August 7, 2013, and effective September 15, 2013, . . . ”; and on page 48302, column 3, line 32, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-0414; Airspace Docket No. 13-ANM-14 (78 FR 49116, August 13, 2013). On page 49116, column 3, line 53, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 49117, column 2, line 21, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1175; Airspace Docket No. 12-AAL-11 (78 FR 50322, August 19, 2013). On page 50322, column 2, line 47, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 50323, column 1, line 12, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0272; Airspace Docket No. 13-ASW-10 (78 FR 50323, August 19, 2013). On page 50323, column 2, line 27, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 50323, column 3, line 55, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0267; Airspace Docket No. 13-ASW-2 (78 FR 52083, August 22, 2013). On page 52083, column 2, line 3, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52083, column 3, line 32, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2012-1140; Airspace Docket No. 12-ASW-11 (78 FR 52084, August 22, 2013). On page 52084, column 1, line 54, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52084, column 3, line 24, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0274; Airspace Docket No. 13-ACE-2 (78 FR 52085, August 22, 2013). On page 52085, column 1, line 50, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52085, column 3, line 16, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0565; Airspace Docket No. 13-AEA-11 (78 FR 52422, August 23, 2013). On page 52422, column 2, line 19, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52422, column 3, line 32, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0276; Airspace Docket No. 13-AEA-5 (78 FR 52423, August 23, 2013). On page 52423, column 2, line 7, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52423, column 3, line 34, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0073; Airspace Docket No. 13-ASO-2 (78 FR 52424, August 23, 2013). On page 52424, column 2, line 4, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 52424, column 3, line 48, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0002; Airspace Docket No. 12-ASO-46 (78 FR 52425, August 23, 2013). On page 52425, column 2, line 20, under History remove “. . . FAA Order 7400.9W, Airspace Designations and Reporting Points, dated August 8, 2012, and effective September 15, 2012, . . .” and add in its place “. . . FAA Order 7400.9X, Airspace Designations and Reporting Points, dated August 7, 2013, and effective September 15, 2013, . . .”; and on page 52425, column 3, line 47, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

For Docket No. FAA-2013-0339; Airspace Docket No. 12-AEA-15 (78 FR 53237, August 29, 2013). On page 53238, column 3, line 30, under History; and on page 53239, column 3, line 6, under Amendatory Instruction 2 remove “. . . FAA Order 7400.9W, Airspace Designations and Reporting Points, dated August 8, 2012, and effective September 15, 2012, . . .” and add in its place “FAA Order 7400.9X, Airspace Designations and Reporting Points, dated August 7, 2013, and effective September 15, 2013, . . .”.

For Docket No. FAA-2013-0504; Airspace Docket No. 13-AEA-3 (78 FR 53239, August 29, 2013). On page 53240, column 3, line 39 under History; and on page 53241, column 3, line 3, under Amendatory Instruction 2 remove “. . . FAA Order 7400.9W, Airspace Designations and Reporting Points, dated August 8, 2012, and effective September 15, 2012, . . .” and add in its place “FAA Order 7400.9X, Airspace Designations and Reporting Points, dated August 7, 2013, and effective September 15, 2013, . . .”.

For Docket No. FAA-2011-0611; Airspace Docket No. 11-AWP-11(78 FR 54561, September 5, 2013). On page 54562, column 1, line 9, under History remove “. . . FAA Order 7400.9W, Airspace Designations and Reporting Points, dated August 8, 2012, and effective September 15, 2012, . . .” and add in its place “FAA Order 7400.9X, Airspace Designations and Reporting Points, dated August 7, 2013, and effective September 15, 2013, . . .”; and on page 54562, column 2, line 37, under Amendatory Instruction 2 remove “. . . Federal Aviation Administration Order 7400.9W, Airspace Designations and Reporting Points, dated August 8, 2012, and effective September 15, 2012, . . .” and add in its place “Federal Aviation Administration Order 7400.9X, Airspace Designations and Reporting Points, dated August 7, 2013, and effective September 15, 2013, . . .”.

Issued in Washington, DC, on July 29, 2014.
Gary A. Norek,
Manager, Airspace Policy and Regulations Group .

[FR Doc. 2014-18417 Filed 8-6-14; 8:45 am]

BILLING CODE 4910-13-P